DEPARTMENT OF EDUCATION

National Assessment Governing Board Quarterly Board Meeting

AGENCY: National Assessment Governing Board, U.S. Department of Education.

ACTION: Announcement of open and closed meetings.

SUMMARY: This notice sets forth the agenda for the March 1-3, 2018 Quarterly Board Meeting of the National Assessment Governing Board (hereafter referred to as Governing Board). This notice provides information to members of the public who may be interested in attending the meeting or providing written comments related to the work of the Governing Board. Notice of this meeting is required under § 10(a)(2) of the Federal Advisory Committee Act (FACA).

DATES: The Quarterly Board Meeting will be held on the following dates:

• March 1, 2018 from 11:00 a.m. to 6:00 p.m.

• March 2, 2018 from 8:30 a.m. to 5:15 p.m.

• March 3, 2018 from 7:30 a.m. to 11:45 a.m.

ADDRESSES: Watergate Hotel, 2650 Virginia Avenue NW, Washington, DC 20037.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279. Written comments may be submitted electronically or in hard copy to the attention of the Executive Officer/Designated Federal Official (see contact information noted above). Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

March 1-3, 2018 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: March 1-3, 2018

March 1: Committee Meetings

Ad Hoc Committee on Measures of Postsecondary Preparedness: Open Session: 11:00 a.m. to 1:30 p.m.

Assessment Development Committee (ADC): Open Session: 1:45 p.m. to 3:00 p.m., Closed Session: 3:00 p.m. to 3:45 p.m.

Executive Committee: Open Session: 4:30 p.m. to 6:00 p.m.

March 2: Full Governing Board and Committee Meetings

Full Governing Board: Open Session: 8:30 a.m. to 10:00 a.m.; Closed Session: 12:45 p.m. to 5:15 p.m.

Committee Meetings

ADC: Open Session: 10:00 a.m. to 12:30 p.m.

Reporting and Dissemination (R&D): Open Session 10:00 a.m. to 12:30 p.m.

Committee on Standards, Design and Methodology (COSDAM): Open Session: 10:00 a.m. to 12:30 p.m.

March 3: Full Governing Board and Committee Meetings

Nominations Committee: Closed Session: 7:30 a.m. to 8:15 a.m.

Full Governing Board: Closed Session: 8:30 a.m. to 8:50 a.m.; Open Session: 8:50 a.m. to 11:45 a.m.

On Thursday, March 1, 2018, the Ad Hoc Committee on Measures of Postsecondary Preparedness will meet in open session from 11:00 a.m. to 1:30 p.m. Thereafter, the ADC will meet in open session from 1:45 p.m. to 3:00 p.m. and in closed session from 3:00 p.m. to 3:45 p.m. to review secure cognitive items for the NAEP Reading Assessment at grades 4 and 8. This meeting must be conducted in closed session because the test items and data are secure and have not been released to the public. Public disclosure of the secure test items would significantly impede implementation of the NAEP assessment program if conducted in open session. Such matters are protected by exemption 9(B) of § 552b(c) of Title 5 of the United States Code.

On Thursday, March 1, 2018, the Executive Committee will convene in open session from 4:30 p.m. to 6:00 p.m.

On Friday, March 2, 2018, the Governing Board will meet in open session from 8:30 a.m. to 9:45 a.m. From 8:30 a.m. to 8:45 a.m., the Governing Board will review and approve the March 2-3, 2018 Governing Board meeting agenda and meeting minutes from the November 2017 Quarterly Board Meeting. Thereafter, from 8:45 a.m. to 9:45 a.m. the Governing Board will receive briefings from the Council of Chief State School Officers (CCSSO) and the CCSSO Governing Board State Policy Task Force.

At 9:45 a.m., the Governing Board will recess for a 15 minute break and reconvene for standing committee meetings in open session which will take place from 10:00 a.m. to 12:30 p.m. Following the committee meetings, from 12:30 p.m. to 12:45 p.m., the Governing Board will take a 15 minute break and meet in closed session from 12:45 p.m. to 5:15 p.m.

From 12:45 p.m. to 4:15 p.m., the Board will receive a briefing and discuss the 2017 NAEP Grades 4 and 8 Reading and Mathematics Report Cards. The closed session briefing will take place from 12:45 p.m. to 2:15 p.m., following which the Board will meet in breakout sessions to discuss the results from 2:30 p.m. to 3:30 p.m. The Governing Board will reconvene in plenary session from 3:45 p.m. to 4:15 p.m. to report out on the discussions. These sessions of the Governing Board meeting must be conducted in closed session because data for the 2017 NAEP Grades 4 and 8 in Reading and Mathematics have not been released to the public. Public disclosure of secure data would significantly impede implementation of the NAEP assessment program if conducted in open session. Such matters are protected by exemption 9(B) of § 552b of Title 5 U.S.C.

From 4:15 p.m.-5:15 p.m., the Governing Board will remain in closed session to receive a briefing on the Grade 4 NAEP Writing Assessment and Achievement Levels. This session of the meeting must be conducted in closed session because items and data for the Grade 4 writing assessment have not been released to the public. Public disclosure of secure data would significantly impede implementation of the NAEP assessment program if conducted in open session. Such matters are protected by exemption 9(B) of § 552b of Title 5 U.S.C. The March 2, 2018 session will adjourn at 5:15 p.m.

On March 3, 2018, the Nominations Committee will meet in closed session from 7:30 a.m. to 8:15 a.m. The Committee will discuss nominees for Governing Board vacancies for terms beginning October 1, 2018. The Nominations Committee's discussions pertain solely to internal personnel rules and practices of an agency and information of a personal nature where disclosure would constitute a clearly unwarranted invasion of personal privacy. As such, the discussions are protected by exemptions 2 and 6 of § 552b(c) of Title 5 of the United States Code.

On Saturday, March 3, 2018, the Governing Board will meet in closed session from 8:30 a.m. to 8:50 a.m. to receive a briefing from the Nominations Committee on the recommended slate of candidates for Board terms beginning October 1, 2018. The Nominations Committee's discussions pertain solely to internal personnel rules and practices of an agency and information of a personal nature where disclosure would constitute a clearly unwarranted invasion of personal privacy. As such, the discussions are protected by exemptions 2 and 6 of § 552b(c) of Title 5 of the United States Code.

From 8:50 a.m. to 9:00 a.m. the Governing Board will convene in open session to take action on finalists for Board member vacancies for terms that begin on October 1, 2018 and approve recommended candidates for submission to the Secretary of Education.

From 9:00 a.m. to 10:00 a.m. the Governing Board will discuss assessment efficiencies in NAEP. Following this session and a 15 minute break, the Board will take action on NAEP Assessment Schedule Priorities. This discussion relates to Strategic Vision #9, which is to develop policy approaches to revise the NAEP assessment subjects and schedule.

The Governing Board will receive reports from its standing committees from 10:45 a.m. to 11:15 a.m. and thereafter take action on the NAEP Framework Development Policy from 11:15 a.m. to 11:45 a.m. This action is pursuant to the Governing Board's Strategic Vision #5, which is to develop new approaches to update NAEP subject area frameworks.

The March 3, 2018 meeting will adjourn at 11:45 a.m.

Access to Records of the Meeting: Pursuant to FACA requirements, the public may also inspect the meeting materials at www.nagb.gov beginning on Thursday, March 1, 2018 by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Dated: February 6, 2018.
William J. Bushaw,
Executive Director, National Assessment Governing Board (NAGB), U.S. Department of Education.

[FR Doc. 2018-02810 Filed 2-9-18; 8:45 am]

BILLING CODE P